DEPARTMENT OF ENERGY

Federal Energy Regulatory Commission

[Docket No. GT02-33-000]

Tennessee Gas Pipeline Company; Notice of Tariff Filing

August 21, 2002.

Take notice that on August 8, 2002, Tennessee Gas Pipeline Company (“Tennessee”) filed revised tariff sheets to offer its customers greater flexibility with respect to submitting bids during an open season under XXVIII of its General Terms and Conditions of its FERC Gas Tariff, Fifth Revised Volume 1. Specifically, Tennessee proposes to revise its tariff to allow it to specify in its open season posting different acceptable notice periods applicable to bids of Reduction Options. Tennessee requests an effective date of September 8, 2002.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-21849 Filed 8-27-02; 8:45 am]

BILLING CODE 6717-01-P